DEPARTMENT OF ENERGY

Federal Energy Regulatory Commission

[Project No. 12818-000; Project No. 12845-000]

Free Flow Power Corporation; FFP Project 14 LLC; Notice of Competing Applications Accepted for Filing and Soliciting Comments, Motions To Intervene, and Protests

September 5, 2007.

Take notice that the following hydroelectric applications have been filed with the Commission and are available for public inspection:

a. Type of Applications: Preliminary Permit (Competing).

b. Applicants, Project Numbers, and Dates Filed: Free Flow Power Corporation, filed the application for Project No. 12818-000 on July 23, 2007.

FFP Project 14, LLC filed the application for Project No.12845-000 on July 25, 2007.

c. Name of the project is Thirty-five Mile Point Project. The project would be located on the Mississippi River in St Charles Parish, Louisiana. The project uses no dam or impoundment.

d. Filed Pursuant to: Federal Power Act, 16 U.S.C. 791a-825r.

e. Applicants Contacts: For the Free Flow Power Corporation: Mr. Dan Irvin, Free Flow Power Corporation, 69 Bridge Street, Manchester, MA 01944, phone (978) 232-3536. FFP Project 7, LLC: Mr. Dan Irvin, FFP Project 7, LLC, 69 Bridge Street, Manchester, MA 01944, phone (978) 232-3536

f. FERC Contact: Robert Bell, (202) 502-6062.

g. Deadline for filing comments, protests, and motions to intervene: 60 days from the issuance date of this notice.

All documents (original and eight copies) should be filed with: Secretary, Federal Energy Regulatory Commission, 888 First Street, NE., Washington, DC 20426. Comments, protests, and interventions may be filed electronically via the Internet in lieu of paper; see 18 CFR 385.2001(a)(1)(iii) and the instructions on the Commission's web site under the “e-Filing” link. The Commission strongly encourages electronic filings. Please include the project number (P-12818-000 or P-12845-000) on any comments or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

h. Description of Projects: The project proposed by Free Flow Power Corporation would consist of: (1) 1,200 proposed 20 kilowatt Free Flow generating units having a total installed capacity of 24 megawatts, (2) a proposed transmission line, and (3) appurtenant facilities. The Free Flow Power Corporation, project would have an average annual generation of 105.12 gigawatt-hours and be sold to a local utility.

The project proposed by FFP Project 20, LLC would consist of: (1) 1,200 proposed 20 kilowatt Free Flow generating units having a total installed capacity of 24 megawatts, (2) a proposed transmission line, and (3) appurtenant facilities. The FFP Project 14, LLC, project would have an average annual generation of 201.48 gigawatt-hours and be sold to a local utility.

i. The filings are available for review at the Commission in the Public Reference Room or may be viewed on the Commission's Web site at http://www.ferc.gov using the “eLibrary” link. Enter the docket number excluding the last three digits in the docket number field to access the document. For assistance, call toll-free 1-866-208-3676 or e-mail FERCONLINESUPPORT@FERC.GOV. For TTY, call (202) 502-8659. A copy is also available for inspection and reproduction at the address in item e above.

j. Competing Preliminary Permit: Anyone desiring to file a competing application for preliminary permit for a proposed project must submit the competing application itself, or a notice of intent to file such an application, to the Commission on or before the specified comment date for the particular application (see 18 CFR 4.36). Submission of a timely notice of intent allows an interested person to file the competing preliminary permit application no later than 30 days after the specified comment date for the particular application. A competing preliminary permit application must conform with 18 CFR 4.30(b) and 4.36.

k. Competing Development Application: Any qualified development applicant desiring to file a competing development application must submit to the Commission, on or before a specified comment date for the particular application, either a competing development application or a notice of intent to file such an application. Submission of a timely notice of intent to file a development application allows an interested person to file the competing application no later than 120 days after the specified comment date for the particular application. A competing license application must conform with 18 CFR 4.30(b) and 4.36.

l. Notice of Intent: A notice of intent must specify the exact name, business address, and telephone number of the prospective applicant, and must include an unequivocal statement of intent to submit, if such an application may be filed, either a preliminary permit application or a development application (specify which type of application). A notice of intent must be served on the applicant(s) named in this public notice.

m. Proposed Scope of Studies Under Permit: A preliminary permit, if issued, does not authorize construction. The term of the proposed preliminary permit would be 36 months. The work proposed under the preliminary permit would include economic analysis, preparation of preliminary engineering plans, and a study of environmental impacts. Based on the results of these studies, the Applicant would decide whether to proceed with the preparation of a development application to construct and operate the project.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “NOTICE OF INTENT TO FILE COMPETING APPLICATION”, “COMPETING APPLICATION”, “PROTEST”, and “MOTION TO INTERVENE”, as applicable, and the Project Number of the particular application to which the filing refers. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address. A copy of any notice of intent, competing application or motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E7-17931 Filed 9-11-07; 8:45 am]

BILLING CODE 6717-01-P